Proclamation 10201 of May 4, 2021

60th Anniversary of the Freedom Rides, 2021

By the President of the United States of America

A Proclamation

On May 4, 1961, thirteen Americans set out on Greyhound and Trailways buses from Washington, DC, to peacefully protest the scourge of segregation. They came from 9 different States and the District of Columbia; they were Black and white, men and women, ranging in age from 18 to 61, sitting side by side in a simple affirmation of shared humanity. They were teachers and students, carpenters and architects, ministers and servicemembers. Frances and Walter Bergman, Albert Bigelow, Ed Blankenheim, Reverend Benjamin Elton Cox, James Farmer, Genevieve Hughes, Jimmy McDonald, James Peck, Joe Perkins, Charles Person, Hank Thomas, and a 21-year-old student at the American Baptist Theological Seminary named John Lewis.

By the time of the first Freedom Rides, Thurgood Marshall and other heroes of the early Civil Rights Movement had already persuaded the Supreme Court to strike down the devastating doctrine of 'separate but equal,' which had given legal cover to the horrors of Jim Crow for more than half a century. But for far too many Americans, that promise of equality was slow to arrive. As their buses arrived in each segregated town, the Riders were brutally attacked by vicious, hateful mobs of white supremacists. They were kicked and beaten unconscious, assaulted with bats and batons, and arrested under laws that had already been declared illegal by the Supreme Court—but which festered nevertheless. One of the two buses had its tires slashed and windows smashed before it was firebombed.

The Freedom Riders remained devoted to nonviolence, displaying extraordinary physical courage and unflinching moral conviction. Despite the brutality they faced, they were joined by five other Riders along the route, and then by hundreds more joining similar rides in the months to come. The public attention they brought to a pernicious cancer in our society further inspired millions of Americans across the country, including generations of Americans who have continued the fight for civil rights in the years since. Their message of bravery, hope, and unity in diversity continues to inspire us.

John Lewis was the first to withstand a physical attack, just 6 days into the trip. It was not his first act of courageous leadership and sacrifice, nor his last. Across his lifetime of service in and out of Government, John Lewis was the moral compass of our Nation—though he absorbed the force of human nature's cruelty, he emanated dignity and grace. On the anniversary of his journey on the Freedom Rides, I am reminded of the message he shared with me before he passed away last summer: that we must stay focused on the work left undone to heal this Nation. It is a call to all Americans to follow the example he set.

My Administration is committed to advancing the values and aspirations of John Lewis and the Freedom Riders. On my first day in office, I signed an Executive Order establishing a comprehensive initiative to address racial equity and redress systemic racism in Federal policies, laws, and programs. I also signed a Memorandum stating that the Federal Government has a responsibility to prevent racism, xenophobia, and intolerance against anyone in the United States—as well as an additional Executive Order on Preventing and Combating Discrimination on the Basis of Gender Identity or Sexual Orientation. I have directed Federal agencies to preserve and strengthen the sacred right to vote using their existing legal authority. My Administration also supports further legislation to protect that most fundamental right—to make our democracy more equitable and accessible for all Americans, and to enact a new Voting Rights Act in John Lewis's name.

Today, we honor the Freedom Riders who took a stand against injustice 60 years ago. And we are inspired by the power and purpose of a dedicated few who helped spark a movement—to make us a better Nation, and to build a more perfect union for all of us.

NOW, THEREFORE, I, JOSEPH R. BIDEN JR., President of the United States of America, by virtue of the authority vested in me by the Constitution and the laws of the United States, do hereby proclaim May 4, 2021, as the 60th Anniversary of the Freedom Rides. I call upon all Americans to participate in ceremonies and activities that honor the Freedom Riders, those who struggled for equal rights during the Civil Rights Movement, and those working still to advance civil rights across the Nation.

IN WITNESS WHEREOF, I have hereunto set my hand this fourth day of May, in the year of our Lord two thousand twenty-one, and of the Independence of the United States of America the two hundred and forty-fifth.

[FR Doc. 2021-09852

Filed 5-6-21; 8:45 am]

Billing code 3295-F1-P